DEPARTMENT OF EDUCATION

Office of Special Education and Rehabilitative Services; Overview Information, Technical Assistance and Dissemination To Improve Services and Results for Children With Disabilities—Improving Achievement of Children With Disabilities Under the No Child Left Behind Act; Notice Inviting Applications for New Awards for Fiscal Year (FY) 2004

Catalog of Federal Domestic Assistance (CFDA) Number: 84.326A.

DATES: Applications Available:

August 10, 2004.

Deadline for Transmittal of Applications: September 9, 2004.

Deadline for Intergovernmental Review: September 14, 2004.

Eligible Applicants: State educational agencies (SEAs), local educational agencies (LEAs), institutions of higher education (IHEs), other public agencies, nonprofit private organizations, for-profit organizations, outlying areas, freely associated States, and Indian tribes or tribal organizations.

Estimated Available Funds: $2,000,000.

Maximum Award: We will reject any application that proposes a budget exceeding $2,000,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: This program provides technical assistance and information that (1) Support States and local entities in building capacity to improve early intervention, educational, and transitional services and results for children with disabilities and their families; and (2) address goals and priorities for improving State systems that provide early intervention, educational, and transitional services for children with disabilities and their families.

Priority: In accordance with 34 CFR 75.105(b)(2)(iv), this priority is from allowable activities specified in the statute (see sections 661(e)(2) and 685 of the Individuals with Disabilities Education Act, as amended (IDEA)).

Absolute Priority: For FY 2004, this priority is an absolute priority. Under 34 CFR 75.105(c)(3), we consider only applications that meet this priority.

This priority is:

Technical Assistance and Dissemination to Improve Services and Results for Children with Disabilities—Improving Achievement of Children With Disabilities under the No Child Left Behind Act.

Background: The No Child Left Behind Act of 2001 (NCLB) ensures greater accountability for all students, including students with disabilities. Initial reports from States and school districts indicate that some schools may be struggling to achieve adequate yearly progress (AYP) based on the performance of students with disabilities on State assessments. This inadequate performance may be due to a variety of factors. In some cases, it may be because schools and classrooms are not organized to promote optimal learning, or curricula and instruction are not designed to include research-based interventions that support the academic achievement of students with disabilities. In other cases, appropriate classroom and assessment accommodations, including assistive technologies, are not being used. And, in other cases, appropriate assessment participation decisions are not being made for students with disabilities. Furthermore, for students with the most significant disabilities, their instructional program may not be aligned with the grade level standards that exist for typically developing children. For all of these reasons, the Office of Special Education Programs (OSEP) is proposing to fund the establishment of a technical assistance center to support States and ultimately school districts and school personnel to ensure that all students with disabilities progress toward proficiency.

Priority: This priority will support a National Center (Center) To Improve Achievement of Children With Disabilities Under No Child Left Behind Act (NCLB). The primary target for this technical assistance will be State educational agencies (SEAs).

The Center must—

(a) Establish and provide ongoing support to a community of practice for improved achievement of children with disabilities under NCLB. The membership of this community of practice must be determined with input from the Department of Education, and must include researchers and technical assistance providers, parents, state and local policy makers, and distinguished teachers and principals. The Center will support the ongoing communication of this community of practice through e-mail, teleconferences, web-based discussions, and face-to-face meetings. The community of practice will serve as an advisory group to the Center.

(b) Identify and synthesize information on effective methods/strategies that SEAs and local educational agencies (LEAs) are using to systematically analyze AYP and other data to help identify schools and classrooms in which students with disabilities are not achieving proficiency.

(c) Develop methods for States to use to assist LEAs and schools in using assessment and other information to conduct needs assessments, identify options, and target particular areas for intervention to improve the performance of students with disabilities. For example, in addition to looking at information on academic performance, schools may want to examine such factors as teacher qualifications, the quality of curricula and instruction, the technology and accommodations provided, the settings in which the instruction occurs, and school behavior management strategies. The Center must focus on helping States work with schools designated to be in “school improvement” status under NCLB.

(d) Help SEAs and LEAs identify effective and promising practices for improving the performance and assessment of children with disabilities by consulting sources such as the What Works Clearinghouse (WWC), by commissioning the WWC to conduct reviews of relevant research if such reviews have not already been done, and, if necessary, by conducting its own reviews of research studies using standards consistent with those of WWC. In addition, the Center will work with other technical assistance providers such as the Access Center: Improving Outcomes for All Students K-8, the National Center on Student Progress Monitoring, the National Center on Positive Behavioral Interventions and Supports, the National Center for Educational Outcomes, the comprehensive regional technical assistance centers and the regional educational laboratories as resources for incorporating effective strategies for improving the performance of students with disabilities in broader improvement efforts. The Center will also work to ensure that these efforts are coordinated with other reform/school improvement initiatives at the district and local school level.

(e) Provide technical assistance, in project years two through five, to a cadre of States and their stakeholders including members of state support systems, school support teams, teachers, principals, parents, pupil services personnel, institutions of higher education and outside consultant groups, on how to work with districts to use the results of this process to:

(1) Design and implement evidence-based and promising instructional practices or individual or school-wide interventions to help students with disabilities reach proficiency including developing criteria that would ensure that appropriate, aligned curriculum is selected;

(2) Design learning environments that support the achievement of grade level academic content standards by students with disabilities and also the attainment of alternate achievement standards aligned to academic content standards for students with the most significant cognitive disabilities;

(3) Select appropriate classroom and assessment accommodations for students with disabilities, including assistive technologies; and

(4) Make appropriate assessment participation decisions for students with disabilities.

(f) Link SEA personnel and their stakeholders to other major technical assistance providers, such as the Access Center: Improving Outcomes for All Students K-8, the National Center on Student Progress Monitoring, the National Center on Positive Behavioral Interventions and Supports, the National Center for Educational Outcomes, the comprehensive regional technical assistance centers and the regional educational laboratories, to ensure that evidence-based and promising practices to improve performance of children with disabilities are promoted and implemented with fidelity.

(g) Work with States to develop an infrastructure to support school and district improvement and to scale up effective school-based models.

(h) The projects funded under this priority must budget for a two-day Project Directors' meeting in Washington, DC during each year of the project.

(i) The projects Web site must include relevant information and documents in an accessible form.

In deciding whether to continue this project for the fourth and fifth years, the Secretary will consider the requirements of 34 CFR 75.253(a), and in addition—

(1) The recommendation of a review team consisting of experts selected by the Secretary. The review will be conducted in Washington, DC during the last half of the project's second year. Projects must budget for the travel associated with this one-day intensive review; and

(2) The timeliness and effectiveness with which all requirements of the negotiated cooperative agreement have been or are being met by the Center.

Waiver of Proposed Rulemaking: Under the Administrative Procedure Act (5 U.S.C. 553) the Department generally offers interested parties the opportunity to comment on a proposed priority. However, section 661(e)(2) of IDEA makes the public comment requirements inapplicable to the priority in this notice.

Program Authority: 20 U.S.C. 1461 and 1485.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Estimated Available Funds: $2,000,000.

Maximum Award: We will reject any application that proposes a budget exceeding $2,000,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs, LEAs, IHEs, other public agencies, nonprofit private organizations, for-profit organizations, outlying areas, freely associated States, and Indian tribes or tribal organizations.

2. Cost Sharing or Matching: This competition does not involve cost sharing or matching.

3. Other: General Requirements—(a) The projects funded under this competition must make positive efforts to employ and advance in employment qualified individuals with disabilities (see section 606 of the IDEA).

(b) Applicants and grant recipients funded under this notice must involve individuals with disabilities or parents of individuals with disabilities in planning, implementing, and evaluating the projects (see section 661(f)(1)(A) of the IDEA).

IV. Application and Submission Information

1. Address to Request Application Package: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326A.

Individuals with disabilities may obtain a copy of the application package in an alternative format (e.g., Braille, large print, audiotape, or computer diskette) by contacting the Grants and Contracts Services Team listed under For Further Information Contact in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: August 10, 2004.

Deadline for Transmittal of Applications: September 9, 2004.

We do not consider an application that does not comply with the deadline requirements.

Applications for grants under this competition may be submitted by mail or hand delivery (including a commercial carrier or courier service), or electronically using the Electronic Grant Application System (e-Application) available through the Department's e-GRANTS system. For information (including dates and times) about how to submit your application by mail or hand delivery, or electronically, please refer to Section IV. 6. Procedures for Submitting Applications in this notice.

Deadline for Intergovernmental Review: September 14, 2004.

4. Intergovernmental Review: This program is subject to Executive Order 12372 and the regulations in 34 CFR part 79. Information about Intergovernmental Review of Federal Programs under Executive Order 12372 is in the application package for this competition. However, in order to ensure that this FY 2004 grant is made before September 30, 2004, the 60-day intergovernmental review period has been waived to 5 days.

5. Funding Restrictions: We reference regulations outlining funding restrictions in the Applicable Regulations section of this notice.

6. Procedures for Submitting Applications: Applications for grants under this competition may be submitted electronically or in paper format by mail or hand delivery.

a. Electronic Submission of Applications.

If you submit your application to us electronically, you must use e-Application available through the Department's e-GRANTS system. The e-GRANTS system is accessible through its portal page at: http://e-grants.ed.gov.

If you use e-Application, you will be entering data online while completing your application. You may not e-mail an electronic copy of a grant application to us. The data you enter online will be saved into a database.

If you participate in e-Application, please note the following:

• Your participation is voluntary.

• You must submit your grant application electronically through the Internet using the software provided on the e-Grants Web site (http://e-grants.ed.gov) by 4:30 p.m., Washington, DC time, on the application deadline date. The regular hours of operation of the e-Grants Web site are 6 a.m. Monday until 7 p.m. Wednesday; and 6 a.m. Thursday until midnight Saturday, Washington, DC time. Please note that the system is unavailable on Sundays, and after 7 p.m. on Wednesdays for maintenance, Washington, DC time. Any modifications to these hours are posted on the e-Grants Web site. We strongly recommend that you do not wait until the application deadline date to initiate an e-Application package.

• You will not receive additional point value because you submit your application in electronic format, nor will we penalize you if you submit your application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The applicant's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Technical Assistance and Dissemination To Improve Services and Results for Children With Disabilities—Improving Achievement of Children With Disabilities under the No Child Left Behind Act competition at: http://e-grants.ed.gov.

b. Submission of Paper Applications By Mail.

If you submit your application in paper format by mail (through the U.S. Postal Service or a commercial carrier), you must send the original and two copies of your application on or before the application deadline date to the following address: U.S. Department of Education, Application Control Center, Attention: (CFDA Number 84.326A), 400 Maryland Avenue, SW., Washington, DC 20202.

You must show proof of mailing consisting of one of the following:

1. A legibly dated U.S. Postal Service Postmark;

2. A legible mail receipt with the date of mailing stamped by the U.S. Postal Service;

3. A dated shipping label, invoice, or receipt from a commercial carrier; or

4. Any other proof of mailing acceptable to the U.S. Secretary of Education.

If you mail your application through the U.S. Postal Service, we do not accept either of the following as proof of mailing:

1. A private metered postmark, or

2. A mail receipt that is not dated by the U.S. Postal Service.

If your application is post marked after the application deadline date, we will notify you that we will not consider the application.

Note: Applicants should note that the U.S. Postal Service does not uniformly provide a dated postmark. Before relying on this method, you should check with your local post office.

c. Submission of Paper Applications by Hand Delivery.

If you submit your application in paper format by hand delivery, you (or a courier service) must deliver the original and two copies of your application on or before the application deadline date to the following address: U.S. Department of Education, Application Control Center, Attention: (CFDA Number 84.326A), 550 12th Street, SW., Room 7041, Potomac Center Plaza, Washington, DC 20202-4260.

The Application Control Center accepts deliveries daily between 8 a.m. and 4:30 p.m., Washington, D.C. time, except Saturdays, Sundays and Federal holidays. A person delivering an application must show identification to enter the building.

Note for Mail or Hand Delivery of Paper Applications: If you mail or hand deliver your application to the Department:

1. You must indicate on the envelope and—if not provided by the Department—in Item 4 of the Application for Federal Education Assistance (ED 424 (exp. 11/30/2004)) the CFDA number—and suffix letter, if any—of the competition under which you are submitting your application.

2. The Application Control Center will mail a Grant Application Receipt Acknowledgment to you. If you do not receive the notification of application receipt within 15 days from the mailing of your application, you should call the U.S. Department of Education Application Control Center at (202) 245-6288.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technical Assistance to Improve Services and Results for Children with Disabilities program (e.g., the extent to which projects use high quality methods and materials, provide useful products and services, and contribute to improving results for children with disabilities). Data on these measures will be collected from the projects funded under this competition.

Grantees will also be required to report information on their projects' performance in annual reports to the Department (EDGAR, 34 CFR 75.590).

We will notify grantees of the performance measures once they are developed.

VII. Agency Contact

FOR FURTHER INFORMATION CONTACT: Debra Price-Ellingstad, U.S. Department of Education, 400 Maryland Avenue, SW., room 4157, Potomac Center Plaza, Washington, DC 20202-2600. Telephone: (202) 245-7481.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 5, 2004.
Troy R. Justesen,
Acting Deputy Assistant Secretary for Special Education and Rehabilitative Services.

[FR Doc. 04-18306 Filed 8-9-04; 8:45 am]

BILLING CODE 4000-01-P